ENVIRONMENTAL PROTECTION AGENCY

40 CFR Part 180

[EPA-HQ-OPP-2013-0210; FRL-9907-59]

α-Alkyl-ω-Hydroxypoly (Oxypropylene) and/or Poly (Oxyethylene) Polymers Where the Alkyl Chain Contains a Minimum of Six Carbons etc.; Exemption From the Requirement of a Tolerance; Technical Correction

AGENCY: Environmental Protection Agency (EPA).

ACTION: Final rule; technical correction.

SUMMARY: EPA issued a final rule in the Federal Register of February 3, 2014, establishing an exemption from the requirement of a tolerance for residues of α-alkyl-ω-hydroxypoly (oxypropylene) and/or poly (oxyethylene) polymers where the alkyl chain contains a minimum of six carbons, and α-alkyl-ω-hydroxypoly (oxypropylene) and/or poly (oxyethylene) polymers where the alkyl chain contains a minimum of six carbons and a minimum number average molecular weight (in amu) 1,100 when used as an inert ingredient as a surfactant in pesticide formulations in growing crops without limitations. The document inadvertently omitted Chemical Abstracts Service (CAS) registry numbers from the regulatory text. This document corrects those errors.

DATES: This final rule correction is effective May 7, 2014.

ADDRESSES: The docket for this action, identified by docket identification (ID) number EPA-HQ-OPP-2013-0210, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Lois Rossi, Registration Division (7509), Office of Pesticide Programs, Environmental Protection Agency, 1200 Pennsylvania Ave. NW., Washington, DC 20460-0001; telephone number: (703) 305-7092; email address: RDFRNNotices@epa.gov.

SUPPLEMENTARY INFORMATION:

I. Does this action apply to me?

The Agency included in the Federal Register of February 3, 2014 (79 FR 6092) (FRL-9394-2), a list of those who may be potentially affected by this action.

II. What does this technical correction do?

EPA issued a final rule in the Federal Register of February 3, 2014 (79 FR 6092), that established an exemption from the requirement of a tolerance for certain chemicals when used as an inert ingredient as a surfactant in pesticide formulations in growing crops without limitations. In the regulatory text, CAS registry numbers were inadvertently omitted under §§ 180.910, 180.930, 180.940, and 180.960.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because this document merely corrects technical omissions. EPA finds that this constitutes good cause under 5 U.S.C. 553(b)(3)(B).

IV. Do any of the statutory and executive order reviews apply to this action?

No. For a detailed discussion concerning the statutory and executive order review, refer to Unit VII. of the February 3, 2014 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: April 23, 2014.
Lois Rossi,
Director, Registration Division, Office of Pesticide Programs.

Therefore, 40 CFR part 180 is corrected as follows:

PART 180—[AMENDED]

1. The authority citation for part 180 continues to read as follows:

Authority: 21 U.S.C. 321(q), 346a and 371.

2. In § 180.910, the table is amended by revising the following inert ingredient to read as follows:

§ 180.910 Inert ingredients used pre- and post-harvest; exemptions from the requirement of a tolerance.

* * * * *

Inert ingredients | Limits | Uses
* * * * * * *
α-Alkyl-ω-hydroxypoly (oxypropylene) and/or poly (oxyethylene) polymers where the alkyl chain contains a minimum of six carbons (CAS Reg. No.: 9002-92-0; 9004-95-9; 9004-98-2; 9005-00-9; 9035-85-2; 9038-29-3; 9038-43-1; 9040-05-5; 9043-30-5; 9087-53-0; 25190-05-0; 24938-91-8; 25231-21-4; 26183-52-8; 26468-86-0; 26636-39-5; 27252-75-1; 27306-79-2; 31726-34-8; 34398-01-1; 34398-05-5; 37251-67-5; 37311-00-5; 37311-01-6; 37311-02-7; 37311-04-9; 39587-22-9; 50861-66-0; 52232-09-4; 52292-17-8; 52609-19-5; 57679-21-7; 59112-62-8; 60828-78-6; 61702-78-1; 61725-89-1; 61791-13-7; 61791-20-6; 61791-28-4; 61804-34-0; 61827-42-7; 61827-84-7; 62648-50-4; 63303-01-5; 63658-45-7; 63793-60-2; 64366-70-7; 64415-24-3; 64415-25-4; 64425-86-1; 65104-72-5; 65150-81-4; 66455-14-9: 66455-15-0; 67254-71-1; 67763-08-0; 68002-96-0; 68002-97-1; 68131-39-5; 68131-40-8; 68154-96-1; 68154-97-2; 68154-98-3; 68155-01-1; 68213-23-0; 68213-24-1; 68238-81-3; 68238-82-4; 68409-58-5; 68409-59-6; 68439-30-5; 68439-45-2; 68439-46-3; 68439-48-5; 68439-49-6; 68439-50-9; 68439-51-0; 68439-53-2; 68439-54-3; 68458-88-8; 68526-94-3; 68526-95-4; 68551-12-2; 68551-13-3; 68551-14-4; 68603-20-3; 68603-25-8; 68920-66-1; 68920-69-4; 68937-66-6; 68951-67-7; 68954-94-9; 68987-81-5; 68991-48-0; 69011-36-5; 69013-18-9; 69013-19-0; 69227-20-9; 69227-21-0; 69227-22-1; 69364-63-2; 70750-27-5; 70879-83-3; 70955-07-6; 71011-10-4; 71060-57-6; 71243-46-4; 72066-65-0; 72108-90-8; 72484-69-6; 72854-13-8; 72905-87-4; 73018-31-2; 73049-34-0; 74432-13-6; 74499-34-6; 78330-19-5; 78330-20-8; 78330-21-9; 78330-23-1; 79771-03-2; 84133-50-6; 85422-93-1; 97043-91-9; 97953-22-5; 102782-43-4; 103331-86-8; 103657-84-7; 103657-85-8; 103818-93-5; 103819-03-0; 106232-83-1; 111905-54-5; 116810-32-3; 116810-33-4; 120313-48-6; 120944-68-5; 121617-09-2; 126646-02-4; 126950-62-7; 127036-24-2; 139626-71-4; 152231-44-2; 154518-36-2; 157627-86-6; 157627-88-8; 157707-41-0; 157707-43-2; 159653-49-3; 160875-66-1; 160901-20-2; 160901-09-7; 160901-19-9; 161025-21-4; 161025-22-5; 166736-08-9; 169107-21-5; 172588-43-1; 176022-76-7; 196823-11-7; 287935-46-0; 288260-45-7; 303176-75-2; 954108-36-2) |  | Surfactants, related adjuvants of surfactants.
* * * * * * *

3. In § 180.930, the table is amended by revising the following inert ingredient to read as follows:

§ 180.930 Inert ingredients applied to animals; exemptions from the requirement of a tolerance.

* * * * *

Inert ingredients | Limits | Uses
* * * * * * *
α-Alkyl-ω-hydroxypoly (oxypropylene) and/or poly (oxyethylene) polymers where the alkyl chain contains a minimum of six carbons (CAS Reg. No.: 9002-92-0; 9004-95-9; 9004-98-2; 9005-00-9; 9035-85-2; 9038-29-3; 9038-43-1; 9040-05-5; 9043-30-5; 9087-53-0; 25190-05-0; 24938-91-8; 25231-21-4; 26183-52-8; 26468-86-0; 26636-39-5; 27252-75-1; 27306-79-2; 31726-34-8; 34398-01-1; 34398-05-5; 37251-67-5; 37311-00-5; 37311-01-6; 37311-02-7; 37311-04-9; 39587-22-9; 50861-66-0; 52232-09-4; 52292-17-8; 52609-19-5; 57679-21-7; 59112-62-8; 60828-78-6; 61702-78-1; 61725-89-1; 61791-13-7; 61791-20-6; 61791-28-4; 61804-34-0; 61827-42-7; 61827-84-7; 62648-50-4; 63303-01-5; 63658-45-7; 63793-60-2; 64366-70-7; 64415-24-3; 64415-25-4; 64425-86-1; 65104-72-5; 65150-81-4; 66455-14-9: 66455-15-0; 67254-71-1; 67763-08-0; 68002-96-0; 68002-97-1; 68131-39-5; 68131-40-8; 68154-96-1; 68154-97-2; 68154-98-3; 68155-01-1; 68213-23-0; 68213-24-1; 68238-81-3; 68238-82-4; 68409-58-5; 68409-59-6; 68439-30-5; 68439-45-2; 68439-46-3; 68439-48-5; 68439-49-6; 68439-50-9; 68439-51-0; 68439-53-2; 68439-54-3; 68458-88-8; 68526-94-3; 68526-95-4; 68551-12-2; 68551-13-3; 68551-14-4; 68603-20-3; 68603-25-8; 68920-66-1; 68920-69-4; 68937-66-6; 68951-67-7; 68954-94-9; 68987-81-5; 68991-48-0; 69011-36-5; 69013-18-9; 69013-19-0; 69227-20-9; 69227-21-0; 69227-22-1; 69364-63-2; 70750-27-5; 70879-83-3; 70955-07-6; 71011-10-4; 71060-57-6; 71243-46-4; 72066-65-0; 72108-90-8; 72484-69-6; 72854-13-8; 72905-87-4; 73018-31-2; 73049-34-0; 74432-13-6; 74499-34-6; 78330-19-5; 78330-20-8; 78330-21-9; 78330-23-1; 79771-03-2; 84133-50-6; 85422-93-1; 97043-91-9; 97953-22-5; 102782-43-4; 103331-86-8; 103657-84-7; 103657-85-8; 103818-93-5; 103819-03-0; 106232-83-1; 111905-54-5; 116810-32-3; 116810-33-4; 120313-48-6; 120944-68-5; 121617-09-2; 126646-02-4; 126950-62-7; 127036-24-2; 139626-71-4; 152231-44-2; 154518-36-2; 157627-86-6; 157627-88-8; 157707-41-0; 157707-43-2; 159653-49-3; 160875-66-1; 160901-20-2; 160901-09-7; 160901-19-9; 161025-21-4; 161025-22-5; 166736-08-9; 169107-21-5; 172588-43-1; 176022-76-7; 196823-11-7; 287935-46-0; 288260-45-7; 303176-75-2; 954108-36-2) |  | Surfactants, related adjuvants of surfactants.
* * * * * * *

4. In § 180.940, the table in paragraph (a) is amended by revising the following entry to read as follows:

§ 180.940 Tolerance exemptions for active and inert ingredients for use in antimicrobial formulations (Food-contact surface sanitizing solutions).

* * * * *

(a) * * *

Pesticide chemical | CAS Reg. No. | Limits
* * * * * * *
α-Alkyl-ω-hydroxypoly (oxypropylene) and/or poly (oxyethylene) polymers where the alkyl chain contains a minimum of six carbons | 9002-92-0; 9004-95-9; 9004-98-2; 9005-00-9; 9035-85-2; 9038-29-3; 9038-43-1; 9040-05-5; 9043-30-5; 9087-53-0; 25190-05-0; 24938-91-8; 25231-21-4; 26183-52-8; 26468-86-0; 26636-39-5; 27252-75-1; 27306-79-2; 31726-34-8; 34398-01-1; 34398-05-5; 37251-67-5; 37311-00-5; 37311-01-6; 37311-02-7; 37311-04-9; 39587-22-9; 50861-66-0; 52232-09-4; 52292-17-8; 52609-19-5; 57679-21-7; 59112-62-8; 60828-78-6; 61702-78-1; 61725-89-1; 61791-13-7; 61791-20-6; 61791-28-4; 61804-34-0; 61827-42-7; 61827-84-7; 62648-50-4; 63303-01-5; 63658-45-7; 63793-60-2; 64366-70-7; 64415-24-3; 64415-25-4; 64425-86-1; 65104-72-5; 65150-81-4; 66455-14-9: 66455-15-0; 67254-71-1; 67763-08-0; 68002-96-0; 68002-97-1; 68131-39-5; 68131-40-8; 68154-96-1; 68154-97-2; 68154-98-3; 68155-01-1; 68213-23-0; 68213-24-1; 68238-81-3; 68238-82-4; 68409-58-5; 68409-59-6; 68439-30-5; 68439-45-2; 68439-46-3; 68439-48-5; 68439-49-6; 68439-50-9; 68439-51-0; 68439-53-2; 68439-54-3; 68458-88-8; 68526-94-3; 68526-95-4; 68551-12-2; 68551-13-3; 68551-14-4; 68603-20-3; 68603-25-8; 68920-66-1; 68920-69-4; 68937-66-6; 68951-67-7; 68954-94-9; 68987-81-5; 68991-48-0; 69011-36-5; 69013-18-9; 69013-19-0; 69227-20-9; 69227-21-0; 69227-22-1; 69364-63-2; 70750-27-5; 70879-83-3; 70955-07-6; 71011-10-4; 71060-57-6; 71243-46-4; 72066-65-0; 72108-90-8; 72484-69-6; 72854-13-8; 72905-87-4; 73018-31-2; 73049-34-0; 74432-13-6; 74499-34-6; 78330-19-5; 78330-20-8; 78330-21-9; 78330-23-1; 79771-03-2; 84133-50-6; 85422-93-1; 97043-91-9; 97953-22-5; 102782-43-4; 103331-86-8; 103657-84-7; 103657-85-8; 103818-93-5; 103819-03-0; 106232-83-1; 111905-54-5; 116810-32-3; 116810-33-4; 120313-48-6; 120944-68-5; 121617-09-2; 126646-02-4; 126950-62-7; 127036-24-2; 139626-71-4; 152231-44-2; 154518-36-2; 157627-86-6; 157627-88-8; 157707-41-0; 157707-43-2; 159653-49-3; 160875-66-1; 160901-20-2; 160901-09-7; 160901-19-9; 161025-21-4; 161025-22-5; 166736-08-9; 169107-21-5; 172588-43-1; 176022-76-7; 196823-11-7; 287935-46-0; 288260-45-7; 303176-75-2; 954108-36-2)
* * * * * * *

* * * * *

5. In § 180.960, the table is amended by revising the following entry to read as follows:

§ 180.960 Polymers; exemptions from the requirement of a tolerance.

* * * * *

Polymer | CAS No.
* * * * * * *
α-Alkyl-ω-hydroxypoly (oxypropylene) and/or poly (oxyethylene) polymers where the alkyl chain contains a minimum of six carbons and a minimum number average molecular weight (in amu) 1,100 | 9002-92-0; 9004-95-9; 9004-98-2; 9005-00-9; 9035-85-2; 9038-29-3; 9038-43-1; 9040-05-5; 9043-30-5; 9087-53-0; 25190-05-0; 24938-91-8; 25231-21-4; 26183-52-8; 26468-86-0; 26636-39-5; 27252-75-1; 27306-79-2; 31726-34-8; 34398-01-1; 34398-05-5; 37251-67-5; 37311-00-5; 37311-01-6; 37311-02-7; 37311-04-9; 39587-22-9; 50861-66-0; 52232-09-4; 52292-17-8; 52609-19-5; 57679-21-7; 59112-62-8; 60828-78-6; 61702-78-1; 61725-89-1; 61791-13-7; 61791-20-6; 61791-28-4; 61804-34-0; 61827-42-7; 61827-84-7; 62648-50-4; 63303-01-5; 63658-45-7; 63793-60-2; 64366-70-7; 64415-24-3; 64415-25-4; 64425-86-1; 65104-72-5; 65150-81-4; 66455-14-9: 66455-15-0; 67254-71-1; 67763-08-0; 68002-96-0; 68002-97-1; 68131-39-5; 68131-40-8; 68154-96-1; 68154-97-2; 68154-98-3; 68155-01-1; 68213-23-0; 68213-24-1; 68238-81-3; 68238-82-4; 68409-58-5; 68409-59-6; 68439-30-5; 68439-45-2; 68439-46-3; 68439-48-5; 68439-49-6; 68439-50-9; 68439-51-0; 68439-53-2; 68439-54-3; 68458-88-8; 68526-94-3; 68526-95-4; 68551-12-2; 68551-13-3; 68551-14-4; 68603-20-3; 68603-25-8; 68920-66-1; 68920-69-4; 68937-66-6; 68951-67-7; 68954-94-9; 68987-81-5; 68991-48-0; 69011-36-5; 69013-18-9; 69013-19-0; 69227-20-9; 69227-21-0; 69227-22-1; 69364-63-2; 70750-27-5; 70879-83-3; 70955-07-6; 71011-10-4; 71060-57-6; 71243-46-4; 72066-65-0; 72108-90-8; 72484-69-6; 72854-13-8; 72905-87-4; 73018-31-2; 73049-34-0; 74432-13-6; 74499-34-6; 78330-19-5; 78330-20-8; 78330-21-9; 78330-23-1; 79771-03-2; 84133-50-6; 85422-93-1; 97043-91-9; 97953-22-5; 102782-43-4; 103331-86-8; 103657-84-7; 103657-85-8; 103818-93-5; 103819-03-0; 106232-83-1; 111905-54-5; 116810-32-3; 116810-33-4; 120313-48-6; 120944-68-5; 121617-09-2; 126646-02-4; 126950-62-7; 127036-24-2; 139626-71-4; 152231-44-2; 154518-36-2; 157627-86-6; 157627-88-8; 157707-41-0; 157707-43-2; 159653-49-3; 160875-66-1; 160901-20-2; 160901-09-7; 160901-19-9; 161025-21-4; 161025-22-5; 166736-08-9; 169107-21-5; 172588-43-1; 176022-76-7; 196823-11-7; 287935-46-0; 288260-45-7; 303176-75-2; 954108-36-2
* * * * * * *

[FR Doc. 2014-09885 Filed 5-6-14; 8:45 am]

BILLING CODE 6560-50-P